DEPARTMENT OF COMMERCE

International Trade Administration

[C-533-872]

Finished Carbon Steel Flanges From India: Final Results of Countervailing Duty Administrative Review; 2021

AGENCY: Enforcement and Compliance, International Trade Administration, U.S. Department of Commerce.

SUMMARY: The U.S. Department of Commerce (Commerce) determines that Norma (India) Ltd. (Norma) and R.N. Gupta & Co. Ltd. (RNG) received countervailable subsidies during the period of review (POR), January 1, 2021, through December 31, 2021.

DATES: Applicable February 20, 2024.

FOR FURTHER INFORMATION CONTACT: Preston N. Cox or Scarlet K. Jaldin, AD/CVD Operations, Office VI, Enforcement and Compliance, International Trade Administration, U.S. Department of Commerce, 1401 Constitution Avenue NW, Washington, DC 20230; telephone: (202) 482-5041 or (202) 482-4275, respectively.

SUPPLEMENTARY INFORMATION:

Background

On August 17, 2023, Commerce published the Preliminary Results of this administrative review in the Federal Register and invited interested parties to comment.¹ In September 2023, Commerce conducted verification of the information reported in the questionnaire responses of Norma (India) Limited (Norma) and R.N. Gupta & Co. Ltd. (RNG).² On November 6, 2023, we received a timely filed case brief from the Government of India (GOI).³ On November 15, 2023, Commerce extended the deadline for issuing these final results to February 1, 2023.⁴ On January 23, 2024, we further extended the deadline for these final results to February 13, 2024.⁵ For a complete description of the events that occurred since the publication of the Preliminary Results, see the Issues and Decision Memorandum.⁶

¹ See Finished Carbon Steel Flanges from India: Preliminary Results of Countervailing Duty Administrative Review; 2021, 88 FR 56000 (August 17, 2023) (Preliminary Results), and accompanying Preliminary Decision Memo (PDM).

² See Memorandum, “Report on Verification of Norma (India) Limited, USK Exports Private Limited, Uma Shanker Khandelwal & Co., and Bansidhar Chiranjilal,” dated October 25, 2023; see also Memorandum, “Report on Verification of R.N. Gupta & Co., Ltd.,” dated October 25, 2023.

³ See GOI's Letter, “Case Brief on behalf,” dated November 6, 2023.

⁴ See Memorandum, “Extension of Deadline for Final Results of Countervailing Duty Administrative Review; 2021,” dated November 15, 2023.

⁵ See Memorandum, “Extension of Deadline for Final Results of Countervailing Duty Administrative Review; 2021,” dated January 23, 2024.

⁶ See Memorandum, “Issues and Decision Memorandum for the Final Results of the Countervailing Duty Administrative Review of Finished Carbon Steel Flanges from India; 2021,” dated concurrently with, and hereby adopted by, this notice (Issues and Decision Memorandum).

Scope of the Order

The merchandise covered by the Order is finished carbon steel flanges. For a complete description of the scope of the Order, see the Issues and Decision Memorandum.⁷

⁷ Id. at 2-3.

Analysis of Comments Received

All issues raised by the GOI in its case brief are addressed in the Issues and Decision Memorandum. A list of topics discussed in the Issues and Decision Memorandum is provided in Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the information on the record, there have been no changes made from the Preliminary Results. For a full discussion of the issues, see the Issues and Decision Memorandum.

Methodology

Commerce conducted this administrative review in accordance with section 751(a)(l)(A) of the Tariff Act of 1930, as amended (the Act). For each of the subsidy programs found to be countervailable, we find that there is a subsidy, i.e., a government-provided financial contribution that gives rise to a benefit to the recipient, and that the subsidy is specific.⁸ For a full description of the methodology underlying our conclusions, including our reliance on adverse facts available pursuant to sections 776(a) and (b) of the Act, see the Issues and Decision Memorandum.

⁸ See sections 771(5)(B) and (D) of the Act regarding financial contribution; see also section 771(5)(E) of the Act regarding benefit; and section 771(5A) of the Act regarding specificity.

Companies Not Selected for Individual Examination

We made no changes to the methodology used in the Preliminary Results ⁹ for determining a rate for companies not selected for individual examination. Therefore, we have made no changes to the subsidy rate calculated for companies not selected for individual examination. The companies for which a review was requested and that were not selected as mandatory respondents or found to be cross-owned with a mandatory respondent are listed in Appendix II.

⁹ See Preliminary Results PDM at 25-26.

Final Results of Administrative Review

As a result of this review, we determine that the following net countervailable subsidy rates exist for the period January 1, 2021, through December 31, 2021:

¹⁰ As discussed in the Preliminary Results PDM, Commerce has found the following companies to be cross-owned with Norma (India) Ltd.: USK Export Private Limited; Uma Shanker Khandelwal and Co.; and Bansidhar Chiranjilal. This rate applies to all cross-owned companies.

¹¹ See Appendix II for a list of companies not selected for individual examination.

Producer/exporter | Subsidy rate (percent ad valorem)
Norma (India) Ltd. ¹⁰ | 2.98
R.N. Gupta & Co. Ltd | 3.20
Non-Selected Companies Under Review ¹¹ | 3.09

Disclosure

Normally, Commerce discloses its calculations and analysis performed in connection with the final results to interested parties within five days of its public announcement, or if there is no public announcement, within five days of the date of publication of this notice, in accordance with 19 CFR 351.224(b). However, because we have made no changes to the calculations used in reaching the Preliminary Results, the countervailable subsidy rates are unchanged from the rates assigned in the Preliminary Results, and there are no calculations to disclose.

Cash Deposit Requirements

Pursuant to section 751(a)(1) of the Act, Commerce intends to instruct U.S. Customs and Border Protection (CBP) to collect cash deposits of estimated countervailing duties in the amounts shown for each company listed above on shipments of subject merchandise entered, or withdrawn from warehouse, for consumption on or after the date of publication of these final results of this administrative review. For all non-reviewed firms, we will instruct CBP to continue to collect cash deposits of estimated countervailing duties at the all-others rate or the most recent company-specific rate applicable to the company or the non-selected companies rate, as appropriate. These cash deposit instructions, effective upon the publication of these final results, shall remain in effect until further notice.

Assessment Requirements

In accordance with section 751(a)(2)(C) of the Act and 19 CFR 351.212(b)(2), Commerce has determined, and CBP shall assess, countervailing duties on all appropriate entries covered by this review for the above-listed companies at the applicable ad valorem assessment rates. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Administrative Protection Order (APO)

This notice also serves as a final reminder to parties subject to an APO of their responsibility concerning the disposition of proprietary information disclosed under APO in accordance with 19 CFR 351.305(a)(3), which continues to govern business proprietary information in this segment of the proceeding. Timely written notification of the return or destruction of APO materials or conversion to judicial protective order, is hereby requested. Failure to comply with the regulations and terms of an APO is a sanctionable violation.

Notification to Interested Parties

These final results are issued and published in accordance with sections 751(a)(1) and 777(i)(1) of the Act, and 351.221(b)(5).

Dated: February 13, 2024.
Ryan Majerus,
Deputy Assistant Secretary for Policy and Negotiations, Performing the Non-exclusive Functions and Duties of the Assistant Secretary for Enforcement and Compliance.

Appendix I—List of Topics Discussed in the Issues and Decision Memorandum

I. Summary

II. Background

III. Scope of the Order

IV. Non-Selected Companies Under Review

V. Subsidies Valuation Information

VI. Use of Facts Otherwise Available and Application of Adverse Inferences

VII. Analysis of Programs

VIII. Discussion of the Issues

Comment 1: Whether the Duty Drawback Program Is Countervailable

Comment 2: Whether the Export Promotion of Capital Goods Scheme Is Countervailable

Comment 3: Whether the Interest Equalization Scheme Is Countervailable

Comment 4: Whether Commerce Correctly Found the Merchandise Export From India Scheme and the Status Holder Incentive Scheme To Be Countervailable

Comment 5: Whether Commerce Correctly Analyzed the Electricity Duty Exemption Under the State Government of Uttar Pradesh Investment Promotion Scheme/Infrastructure and Industrial Investment Policy (SGUP-EDE) Scheme

IX. Recommendation

Appendix II—Companies Not Selected for Individual Examination

1. Adinath International

2. Allena Group

3. Alloyed Steel

4. Balkrishna Steel Forge Pvt. Ltd.

5. Bebitz Flanges Works Private Limited

6. C.D. Industries

7. Cetus Engineering Private Limited

8. CHW Forge

9. CHW Forge Pvt. Ltd.

10. Citizen Metal Depot

11. Corum Flange

12. DN Forge Industries

13. Echjay Forgings Limited

14. Falcon Valves and Flanges Private Limited

15. Heubach International

16. Hindon Forge Pvt. Ltd.

17. Jai Auto Pvt. Ltd.

18. Kinnari Steel Corporation

19. M F Rings and Bearing Races Ltd.

20. Mascot Metal Manufacturers

21. Munish Forge Private Limited

22. OM Exports

23. Punjab Steel Works (PSW)

24. R.D. Forge

25. Raaj Sagar Steel

26. Ravi Ratan Metal Industries

27. Rolex Fittings India Pvt. Ltd.

28. Rollwell Forge Engineering Components and Flanges

29. Rollwell Forge Pvt. Ltd.

30. SHM (ShinHeung Machinery)

31. Siddhagiri Metal & Tubes

32. Sizer India

33. Steel Shape India

34. Sudhir Forgings Pvt. Ltd.

35. Tirupati Forge

36. Umashanker Khandelwal Forging Limited

[FR Doc. 2024-03402 Filed 2-16-24; 8:45 am]

BILLING CODE 3510-DS-P